DEPARTMENT OF STATE

[Public Notice 9025]

Notice of Public Meeting

The Department of State will conduct an open meeting at 10:00 a.m. on Wednesday, March 11, 2015, at the offices of the Radio Technical Commission for Maritime Services (RTCM), 1611 N. Kent Street, Suite 605, Arlington, VA 22209. The primary purpose of the meeting is to prepare for the second session of the International Maritime Organization's (IMO) Sub-Committee on Ship Systems and Equipment to be held at the IMO Headquarters, United Kingdom, March 23-27, 2015.

Substantive agenda items to be considered include:

—Smoke control and ventilation

—Amendments to SOLAS regulation II-2/20 and associated guidance on air quality management for ventilation of closed vehicle spaces, closed ro-ro and special category spaces

—Development of life safety performance criteria for alternative design and arrangements for fire safety (MSC/Circ.1002)

—New framework of requirements for life-saving appliances

—Safety objectives and functional requirements of the Guidelines on alternative design and arrangements for SOLAS chapters II-1 and III

—Measures for onboard lifting appliances and winches

—Considerations related to the double sheathed low-pressure fuel pipes for fuel injection systems in engines on crude oil tankers

—Amendments to the requirements for foam-type fire extinguishers in SOLAS regulation II-2/10.5

—Unified interpretation of provisions of IMO safety, security, and environment related conventions

—Review the MODU Code, LSA Code and MSC.1/Circ.1206/Rev.1

—Amendments to the Guidelines for vessels with dynamic positioning (DP) systems (MSC/Circ.645)

—Review of flashpoint requirements for oil fuel in SOLAS chapter II-2

—Revision of requirements for automatic sprinkler systems

—Revision of requirements for escape route signs and equipment location markings in SOLAS and related instruments

—Biennial agenda and provisional agenda for SSE 3

—Any other business

Members of the public may attend this meeting up to the seating capacity of the room. To facilitate the building security process, and to request reasonable accommodation, those who plan to attend should contact the meeting coordinator, LT Charles Taylor, by email at Charles.W.Taylor@uscg.mil, or by phone at (202) 372-1356, not later than March 4, 2015, 7 days prior to the meeting. Requests made after March 4, 2015, might not be able to be accommodated. RTCM Headquarters is adjacent to the Rosslyn Metro station. For further directions and lodging information, please see: http://www.rtcm.org/visit.php. Additional information regarding this and other IMO public meetings may be found at: www.uscg.mil/imo.

Dated: January 29, 2015.
Marc Zlomek,
Office of Ocean and Polar Affairs, Department of State.

[FR Doc. 2015-02263 Filed 2-3-15; 8:45 am]

BILLING CODE 4710-09-P